CORPORATION FOR NATIONAL AND COMMUNITY SERVICE

Notice of Funding To Support Scholars Under the Civil Society-Nonprofit Scholars Program

AGENCY: Corporation for National and Community Service.

ACTION: Notice of availability of funds.

SUMMARY: The Corporation for National and Community Service (hereinafter the “Corporation”) announces the availability of funding to offer up to three nine-month residency scholars' awards under the Civil Society-Nonprofit Scholars program, a joint venture with the Woodrow Wilson International Center for Scholars in Washington, DC. Applicants are encouraged to submit proposals to conduct applied research in three thematic areas: (1) The relationship between democratic institutions and nonprofit organizations; (2) the role of service and citizenship in modern and civil society; and (3) civic engagement and public policy. This program solicits applications from individuals with experience in government, the corporate world, the professions and academia. Eligibility for academic applicants is limited to candidates with demonstrated scholarly development beyond the doctoral level. Non-academic candidates shall match professional, governmental or corporate levels of experience similar to those established for the Woodrow Wilson Fellows program. Memoir projects will be considered but are discouraged. A full description of the program, eligibility requirements and application material are located at the Corporation's Web site: http://www.nationalservice.org/scholars.

DATES: The application deadline is February 3, 2003. Notification of scholarship awards shall take place in mid-April, 2003. Scholars will be in residence at the Corporation's Washington, DC headquarters from September 2003 through May 2004.

ADDRESSES: If you cannot access the Corporation's Web site, you may request a program description and application materials by writing to the following address: The Corporation for National and Community Service, Civil Society-Nonprofit Scholars Program, 1201 New York Avenue, NW., Room 8100-H, Washington, DC 20525.

FOR FURTHER INFORMATION CONTACT: Robin Dean at (202) 606-5000 ext. 436, TTY: (202) 565-2799; Fax: (202) 565-2743; E-mail: scholars@cns.gov; World Wide Web: http://www.nationalservice.org/scholars.

Dated: November 25, 2002.
David A. Reingold,
Director, Department of Research and Policy Development.

[FR Doc. 02-30585 Filed 12-2-02; 8:45 am]

BILLING CODE 6050-$$-P